DEPARTMENT OF ENERGY

Federal Energy Regulatory Commission

Combined Notice of Filings

Take notice that the Commission has received the following Part 284 Natural Gas Pipeline Rate filings:

Docket Number: PR21-38-000.

Applicants: Worsham-Steed Gas Storage, LLC.

Description: Tariff filing per 284.123(b),(e)/: Notice of Non-Material Change in Ownership.

Filed Date: 3/12/2021.

Accession Number: 202103125263.

Comments/Protests Due: 5 p.m. ET 4/2/2021.

Docket Number: PR21-39-000.

Applicants: Hill-Lake Gas Storage, LLC.

Description: Tariff filing per 284.123(b),(e)/: Notice of Non-Material Change in Ownership.

Filed Date: 3/12/2021.

Accession Number: 202103125264.

Comments/Protests Due: 5 p.m. ET 4/2/2021

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2021.
Nathaniel J. Davis, Sr.,
Deputy Secretary.

[FR Doc. 2021-05933 Filed 3-22-21; 8:45 am]

BILLING CODE 6717-01-P